NUCLEAR REGULATORY COMMISSION

[NRC-2013-0088]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on October 3, 2014 (79 FR 59867). No comments were received.

1. Type of submission, new, revision, or extension: Revision.

2. The title of the information collection: 10 CFR part 95, Facility Security Clearance and Safeguarding of National Security Information and Restricted Data.

3. Current OMB approval number: 3150-0047.

4. The form number if applicable: NRC Form 450F.

5. How often the collection is required: On Occasion.

6. Who will be required or asked to report: NRC-regulated facilities and their contractors who require access to, and possession of, NRC classified information.

7. An estimate of the number of annual responses: 323.

8. The estimated number of annual respondents: 129.

9. An estimate of the total number of hours needed annually to complete the requirement or request: 984.7 (832.7 reporting hours + 152 recordkeeping hours).

10. Abstract: The NRC-regulated facilities and their contractors who are authorized to possess classified matter are required to provide information and maintain records to ensure that an adequate level of protection is provided to NRC classified information and material. This clearance is being revised to add a voluntary form (NRC Form 450F) for fulfilling reporting requirements under § 95.17 of Title 10 of the Code of Federal Regulations.

The public may examine and have copied for a fee publicly-available documents, including the final supporting statement, at the NRC's Public Document Room, Room O-1F21, One White Flint North, 11555 Rockville Pike, Rockville, Maryland. The OMB clearance requests are available at the NRC's Web site: http://www.nrc.gov/public-involve/doc-comment/omb/. The document will be available on the NRC's home page site for 60 days after the signature date of this notice.

Comments and questions should be directed to the OMB reviewer listed below by February 12, 2015February 12, 2015. Comments received after this date will be considered if it is practical to do so, but assurance of consideration cannot be given to comments received after this date.

Vlad Dorjets, Desk Officer, Office of Information and Regulatory Affairs (3150-0047), NEOB-10202, Office of Management and Budget, Washington, DC 20503.

Comments can also be emailed to Vladik_Dorjets@omb.eop.gov or submitted by telephone at (202) 395-7315.

The NRC Clearance Officer is Tremaine Donnell, 301-415-6258.

Dated at Rockville, Maryland, this 6th day of January, 2015.
For the Nuclear Regulatory Commission.
Tremaine Donnell,
NRC Clearance Officer, Office of Information Services.

[FR Doc. 2015-00306 Filed 1-12-15; 8:45 am]

BILLING CODE 7590-01-P